DEPARTMENT OF TRANSPORTATION

Federal Aviation Administration

14 CFR Part 39

[Docket No. FAA-2006-26118; Directorate Identifier 2006-NM-226-AD; Amendment 39-14803; AD 2006-22-06]

RIN 2120-AA64

Airworthiness Directives; Bombardier Model CL-600-2B16 (CL-604) Airplanes and Model CL-600-2B19 (Regional Jet Series 100 & 440) Airplanes

AGENCY: Federal Aviation Administration (FAA), Department of Transportation (DOT).

ACTION: Final rule; request for comments.

SUMMARY: The FAA is superseding an existing airworthiness directive (AD) that applies to certain Bombardier Model CL-600-2B16 (CL-604) airplanes and Model CL-600-2B19 (Regional Jet Series 100 & 440) airplanes. These models may be referred to by their marketing designations as RJ100, RJ200, RJ440, CRJ100, CRJ200, CRJ440, and CL-65. The existing AD currently requires revising the Emergency Procedures section of the airplane flight manual (AFM) to advise the flightcrew of additional procedures to follow in the event of stabilizer trim runaway. For certain airplanes, the existing AD also requires revising the Abnormal Procedures section of the AFM to advise the flightcrew of procedures to follow in the event of MACH TRIM, STAB TRIM, and horizontal stabilizer trim malfunctions. This AD requires revising the same Emergency and Abnormal Procedures sections of the AFM to advise the flightcrew of revised/additional procedures. This AD also requires revising the Normal section of the AFM to require a review of the location of certain circuit breakers and a functional check of the stabilizer trim system. This AD also requires installing circuit breaker identification collars and provides an optional terminating action for the requirements of the AD. This AD also removes airplanes from the applicability of the existing AD. This AD results from reports of uncommanded horizontal stabilizer trim motion. We are issuing this AD to ensure that the flightcrew is advised of appropriate procedures to follow in the event of uncommanded movement or stabilizer trim runaway. Failure to follow these procedures could result in excessive uncommanded movement of the horizontal stabilizer trim actuator (HSTA) and loss of ability to use trim switches to override uncommanded movement or yoke disconnect switches to disconnect the HSTA, which could result in reduction of or loss of pitch control and consequent reduced controllability of the airplane.

DATES: This AD becomes effective November 14, 2006.

The Director of the Federal Register approved the incorporation by reference of certain publications listed in the AD as of November 14, 2006.

On September 1, 2006 (71 FR 51990, September 1, 2006), the Director of the Federal Register approved the incorporation by reference of certain other publications listed in the AD.

We must receive any comments on this AD by December 29, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this AD.

FOR FURTHER INFORMATION CONTACT: Bruce Valentine, Aerospace Engineer, Systems and Flight Test Branch, ANE-172, FAA, New York Aircraft Certification Office, 1600 Stewart Avenue, suite 410, Westbury, New York 11590; telephone (516) 228-7328; fax (516) 794-5531.

SUPPLEMENTARY INFORMATION:

Discussion

On August 29, 2006, the FAA issued AD 2006-18-04, amendment 39-14742 (71 FR 51990, September 1, 2006). That AD applies to certain Bombardier Model CL-600-2B16 (CL-604) airplanes and Model CL-600-2B19 (Regional Jet Series 100 & 440) airplanes. That AD requires revising the Emergency Procedures section of the airplane flight manual (AFM) to advise the flightcrew of additional procedures to follow in the event of stabilizer trim runaway. For certain airplanes, that AD also requires revising the Abnormal Procedures section of the AFM to advise the flightcrew of procedures to follow in the event of MACH TRIM, STAB TRIM, and horizontal stabilizer trim malfunctions. That AD resulted from reports of uncommanded horizontal stabilizer trim motion. The actions specified in that AD are intended to ensure that the flightcrew is advised of appropriate procedures to follow in the event of stabilizer trim runaway. Failure to follow these procedures could result in excessive uncommanded movement of the horizontal stabilizer trim actuator (HSTA) and loss of ability to use trim switches to override uncommanded movement or yoke disconnect switches to disconnect the HSTA, which could result in reduction of or loss of pitch control and consequent reduced controllability of the airplane.

That AD paralleled Canadian airworthiness directives CF-2006-20, dated August 22, 2006, and CF-2006-21, dated August 23, 2006.

Actions Since AD Was Issued

Since we issued that AD 2006-18-04, Transport Canada Civil Aviation (TCCA), which is the airworthiness authority for Canada, issued Canadian airworthiness directives CF-2006-21R1, dated October 3, 2006, and CF-2006-20R1, dated October 4, 2006, which supersede Canadian airworthiness directives CF-2006-21 and CF-2006-20, respectively. The new Canadian airworthiness directives specify revising the AFM procedures for stabilizer trim runaway, installing circuit breaker collars, and introducing trim system preflight tests. The Canadian airworthiness directives also specify installing a new, improved horizontal stabilizer trim control unit (HSTCU). The new Canadian airworthiness directives also revise the affected airplanes by removing serial numbers (S/Ns) 5666 and subsequent for the Model CL-600-2B16 (CL-604) airplanes and removing S/Ns 8067 and subsequent for Model CL-600-2B19 (Regional Jet Series 100 & 440) airplanes. Model CL-600-2B16 (CL-604) airplanes, S/Ns 5666 and subsequent, and Model CL-600-2B19 (Regional Jet Series 100 & 440) airplanes, S/Ns 8067 and subsequent, have the new, improved HSTCU installed during production.

In AD 2006-18-04, we stated that we considered that AD interim action and that the manufacturer was developing service bulletins that specify replacing HSTCU circuit boards with HSTCU circuit boards having conformal coating and was exploring other interim measures. The manufacturer now has developed a replacement and other interim measures, and we have determined that further rulemaking is indeed necessary; this AD follows from that determination.

Relevant Service Information

Bombardier has issued the temporary revisions (TRs) specified in the table below.

Table—TRs
For Bombardier Model— | Use— | Dated— | To the—
CL-600-2B16 (CL-604) airplanes | Canadair Challenger TR 604/21-1 | October 3, 2006 | Canadair Challenger CL-604 AFM, PSP 604-1.
CL-600-2B19 (Regional Jet Series 100 & 440) airplanes | Canadair Regional Jet TR RJ/152-5 | October 3, 2006 | Canadair Regional Jet AFM, CSP A-012.

TR 604/21-1 describes revising the Emergency and Abnormal Procedures sections of the Canadair Challenger CL-604 AFM to advise the flightcrew of additional procedures to follow in the event of stabilizer trim runaway and to advise the flightcrew of revised procedures to follow in the event of MACH TRIM, STAB TRIM, and horizontal stabilizer trim malfunctions. TR RJ/152-5 describes revising the Emergency and Abnormal Procedures sections of the Canadair Regional Jet AFM to advise the flightcrew of revised procedures to follow in the event of stabilizer trim runaway and in the event of MACH TRIM, STAB TRIM, and horizontal stabilizer trim malfunctions.

Bombardier has also issued Modification Summary Package IS601R27410051, Revision C, dated September 29, 2006 (for Model CL-600-2B19 (Regional Jet Series 100 & 440) airplanes). The modification summary package describes procedures for installing circuit breaker identification collars on certain circuit breakers.

Bombardier has also issued Alert Service Bulletin A604-27-029, dated September 28, 2006 (for Model CL-600-2B16 (CL-604) airplanes). The service bulletin describes procedures for installing circuit breaker identification collars on certain circuit breakers and for installing a new, improved HSTCU.

Bombardier has also issued Service Bulletin 601R-27-147, dated September 28, 2006 (for Model CL-600-2B19 (Regional Jet Series 100 & 440) airplanes). The service bulletin describes procedures for installing a new, improved HSTCU. The service bulletin refers to Sagem Service Bulletin HSTCU-27-011, dated September 22, 2006, as an additional source of service information for doing the installation.

TCCA mandated the service information and issued Canadian airworthiness directives CF-2006-20R1, dated October 4, 2006, and CF-2006-21R1, dated October 3, 2006, to ensure the continued airworthiness of these airplanes in Canada. The Canadian airworthiness directives also specify to brief the flightcrew to do the following actions prior to the first flight of the day: Do a review of the location of certain circuit breakers, and do a functional check of the stabilizer trim system.

FAA's Determination and Requirements of This AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are issuing this AD to supersede AD 2006-18-04. This new AD retains the requirements of the existing AD and requires revising the Emergency and Abnormal Procedures sections of the AFM to advise the flightcrew of additional/revised procedures to follow in the event of stabilizer trim runaway, which replace AFM revisions required by the existing AD. This new AD also requires the installation of circuit breaker identification collars. This AD also requires revising the Normal section of the AFM to require the flightcrew to review the location of certain circuit breakers and do a functional check of the stabilizer trim system prior to the first flight of the day. This new AD also provides an optional terminating action for the requirements of this AD. This new AD also removes airplanes from the applicability of the existing AD.

Interim Action

We consider this AD interim action. We are currently considering requiring the installation of a new, improved HSTCU, which will constitute terminating action for the requirements of this AD action. However, the planned compliance time for the installation of the modification would allow enough time to provide notice and opportunity for prior public comment on the merits of the modification.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-26118; Directorate Identifier 2006-NM-226-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14742 (71 FR 51990, September 1, 2006) and adding the following new AD:

2006-22-06 Bombardier, Inc. (Formerly Canadair): Docket No. FAA-2006-26118; Directorate Identifier 2006-NM-226-AD; Amendment 39-14803.

Effective Date

(a) This AD becomes effective November 14, 2006.

Affected ADs

(b) This AD supersedes AD 2006-18-04.

Applicability

(c) This AD applies to Bombardier Model CL-600-2B16 (CL-604) airplanes, serial numbers 5301 through 5665 inclusive; and Model CL-600-2B19 (Regional Jet Series 100 & 440) airplanes, serial numbers 7003 through 7990 inclusive and 8000 through 8066 inclusive; certificated in any category.

Note 1: The Model CL-600-2B19 (Regional Jet Series 100 & 440) airplanes may be referred to by their marketing designations as RJ100, RJ200, RJ440, CRJ100, CRJ200, CRJ440, and CL-65.

Unsafe Condition

(d) This AD results from reports of uncommanded horizontal stabilizer trim motion. We are issuing this AD to ensure that the flightcrew is advised of appropriate procedures to follow in the event of uncommanded movement or stabilizer trim runaway. Failure to follow these procedures could result in excessive uncommanded movement of the horizontal stabilizer trim actuator (HSTA) and loss of ability to use trim switches to override uncommanded movement or yoke disconnect switches to disconnect the HSTA, which could result in reduction of or loss of pitch control and consequent reduced controllability of the airplane.

Compliance

(e) You are responsible for having the actions required by this AD performed within the compliance times specified, unless the actions have already been done.

Restatement of Requirements of AD 2006-18-04

Airplane Flight Manual (AFM) Revision

(f) Within 7 days after September 1, 2006 (the effective date of AD 2006-18-04), make the applicable AFM revisions specified in paragraph (f)(1) or (f)(2) of this AD by incorporating the applicable Canadair (Bombardier) temporary revisions (TRs) identified in Table 1 of this AD into the applicable AFM. Doing the actions specified in paragraph (h) of this AD terminates the requirements of this paragraph.

(1) For Model CL-600-2B16 (CL-604) airplanes: Revise the Emergency Procedures section of the AFM to advise the flightcrew of additional procedures to follow in the event of stabilizer trim runaway.

(2) For Model CL-600-2B19 (Regional Jet Series 100 & 440) airplanes: Revise the Emergency and Abnormal Procedures sections of the AFM to advise the flightcrew of additional procedures to follow in the event of stabilizer trim runaway and in the event of MACH TRIM, STAB TRIM, and horizontal stabilizer trim malfunctions.

Table 1.—TRs
For Bombardier model— | Use— | Dated— | To the—
CL-600-2B16 (CL-604) airplanes | Canadair Challenger TR 604/21 | August 1, 2006 | Canadair Challenger CL-604 AFM, PSP 604-1.
CL-600-2B19 (Regional Jet Series 100 & 440) airplanes | Canadair Regional Jet TR RJ/152-4 | August 9, 2006 | Canadair Regional Jet AFM, CSP A-012.

(g) When the applicable TR specified in paragraph (f) of this AD has been included in the general revisions of the applicable AFM, those general revisions may be inserted into the AFM and the applicable TR may be removed, provided the relevant information in the general revisions is identical to that in the TR.

New Requirements of This AD

New AFM Revisions

(h) Within 14 days after the effective date of this AD, make the applicable AFM revisions specified in paragraph (h)(1) or (h)(2) of this AD by incorporating the applicable Canadair (Bombardier) TRs identified in Table 2 of this AD into the applicable AFM. Doing this revision terminates the requirements of paragraph (f) of this AD, and after this revision has been done, remove the AFM revisions required by paragraph (f) of this AD from the applicable AFM.

(1) For Model CL-600-2B16 (CL-604) airplanes: Revise the Emergency and Abnormal Procedures sections of the AFM to advise the flightcrew of additional procedures to follow in the event of stabilizer trim runaway and to advise the flightcrew of revised procedures to follow in the event of MACH TRIM, STAB TRIM, and horizontal stabilizer trim malfunctions.

(2) For Model CL-600-2B19 (Regional Jet Series 100 & 440) airplanes: Revise the Emergency and Abnormal Procedures sections of the AFM to advise the flightcrew of revised procedures to follow in the event of stabilizer trim runaway and in the event of MACH TRIM, STAB TRIM, and horizontal stabilizer trim malfunctions.

Table 2.—New TRs
For Bombardier model— | Use— | Dated— | To the—
CL-600-2B16 (CL-604) airplanes | Canadair Challenger TR 604/21-1 | October 3, 2006 | Canadair Challenger CL-604 AFM, PSP 604-1.
CL-600-2B19 (Regional Jet Series 100 & 440) airplanes | Canadair Regional Jet TR RJ/152-5 | October 3, 2006 | Canadair Regional Jet AFM, CSP A-012.

(i) When the applicable TR specified in paragraph (h) of this AD has been included in the general revisions of the applicable AFM, those general revisions may be inserted into the AFM and the applicable TR may be removed, provided the relevant information in the general revisions is identical to that in the TR.

Installation of Circuit Breaker Identification Collars

(j) Within 14 days after the effective date of this AD, install circuit breaker identification collars in accordance with Bombardier Modification Summary Package IS601R27410051, Revision C, dated September 29, 2006 (for Model CL-600-2B19 (Regional Jet Series 100 & 440) airplanes); or the Accomplishment Instructions of Bombardier Alert Service Bulletin A604-27-029, dated September 28, 2006 (for Model CL-600-2B16 (CL-604) airplanes); as applicable.

Additional AFM Revision

(k) For Model CL-600-2B19 (Regional Jet Series 100 & 440) airplanes: Within 14 days after the effective date of this AD, revise the Normal section of the Canadair Regional Jet AFM, CSP A-012, to include the statement specified in Figure 1 of this AD. This may be done by inserting a copy of Figure 1 of this AD into the AFM.

BILLING CODE 4910-13-P

Note 2: When a statement identical to that in paragraph (k) of this AD has been included in the general revisions of the applicable AFM, those general revisions may be inserted into the AFM, and the copy of this AD may be removed from the AFM.

(l) For Model CL-600-2B16 (CL-604) airplanes: Within 14 days after the effective date of this AD, revise the Normal section of the Canadair Challenger CL-604 AFM, PSP 604-1, to include the following statement. This may be done by inserting a copy of this AD into the AFM.

“Prior to the flightcrew's first flight of the day, do the following actions:

1. Review the location of the STAB CH1 HSTCU and STAB CH2 HSTCU circuit breakers.

2. Check the stabilizer trim system as detailed in CL-604 AFM ‘Normal Procedures’ section titled ‘Flight Controls Trim Systems, Before Flight—First Flight of the Day.’ ”

Note 3: When a statement identical to that in paragraph (l) of this AD has been included in the general revisions of the applicable AFM, those general revisions may be inserted into the AFM, and the copy of this AD may be removed from the AFM.

Optional Terminating Action

(m) Installation of horizontal stabilizer trim control unit (HSTCU), part number (P/N) 601R92301-15 (vendor P/N 7060-10), in accordance with the Accomplishment Instructions of Bombardier Alert Service Bulletin A604-27-029, dated September 28, 2006 (for Model CL-600-2B16 (CL-604) airplanes); or Bombardier Service Bulletin 601R-27-147, dated September 28, 2006 (for Model CL-600-2B19 (Regional Jet Series 100 & 440) airplanes); as applicable, constitutes terminating action for this AD. After doing the installation, the AFM revisions required by paragraphs (f), (h), (k), and (l) of this AD may be removed from the applicable AFM, and the circuit breaker identification collars required by paragraph (j) of this AD may be removed.

Note 4: Bombardier Service Bulletin 601R-27-147, dated September 28, 2006, refers to Sagem Service Bulletin HSTCU-27-011, dated September 22, 2006, as an additional source of service information for accomplishment of the installation.

Service Bulletin Exception

(n) Although Bombardier Alert Service Bulletin A604-27-029, dated September 28, 2006, specifies to return certain parts to the manufacturer, this AD does not include that requirement.

Previous Actions Accomplished According to Modification Summary Package

(o) Actions accomplished before the effective date of this AD in accordance with Bombardier Modification Summary Package IS601R27410051, Revision A, dated September 18, 2006; or Revision B, dated September 27, 2006, are considered acceptable for compliance with the action specified in paragraph (j) of this AD, provided that the circuit breaker collars meet the color requirements of Bombardier Modification Summary Package IS601R27410051, Revision C, dated September 29, 2006.

Alternative Methods of Compliance (AMOCs)

(p)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(q) Canadian airworthiness directives CF-2006-20R1, dated October 4, 2006, and CF-2006-21R1, dated October 3, 2006, also address the subject of this AD.

Material Incorporated by Reference

(r) You must use Bombardier Alert Service Bulletin A604-27-029, dated September 28, 2006; Bombardier Modification Summary Package IS601R27410051, Revision C, dated September 29, 2006; and the temporary revisions listed in Table 3 of this AD; as applicable, to perform the actions that are required by this AD, unless the AD specifies otherwise. If the optional terminating action is accomplished, you must use Bombardier Alert Service Bulletin A604-27-029, dated September 28, 2006; or Bombardier Service Bulletin 601R-27-147, dated September 28, 2006; as applicable, to perform the optional terminating actions specified in this AD, unless the AD specifies otherwise.

Table 3.—All Temporary Revisions Incorporated by Reference
Temporary revision— | Dated— | To the—
Canadair Challenger Temporary Revision 604/21 | August 1, 2006 | Canadair Challenger CL-604 Airplane Flight Manual, PSP 604-1.
Canadair Challenger Temporary Revision 604/21-1 | October 3, 2006 | Canadair Challenger CL-604 Airplane Flight Manual, PSP 604-1.
Canadair Regional Jet Temporary Revision RJ/152-4 | August 9, 2006 | Canadair Regional Jet Airplane Flight Manual, CSP A-012.
Canadair Regional Jet Temporary Revision RJ/152-5 | October 3, 2006 | Canadair Regional Jet Airplane Flight Manual, CSP A-012.

(1) The Director of the Federal Register approved the incorporation by reference of Bombardier Alert Service Bulletin A604-27-029, dated September 28, 2006; Bombardier Service Bulletin 601R-27-147, dated September 28, 2006; Bombardier Modification Summary Package IS601R27410051, Revision C, dated September 29, 2006; and the temporary revisions listed in Table 4 of this AD in accordance with 5 U.S.C. 552(a) and 1 CFR part 51.

Table 4.—New Temporary Revisions Incorporated by Reference
Temporary revision— | Dated— | To the—
Canadair Challenger Temporary Revision 604/21-1 | October 3, 2006 | Canadair Challenger CL-604 Airplane Flight Manual, PSP 604-1.
Canadair Regional Jet Temporary Revision RJ/152-5 | October 3, 2006 | Canadair Regional Jet Airplane Flight Manual, CSP A-012.

(2) On September 1, 2006 (71 FR 51990, September 1, 2006), the Director of the Federal Register approved the incorporation by reference of the temporary revisions listed in Table 5 of this AD.

Table 5.—Previous Temporary Revisions Incorporated by Reference
Temporary revision— | Dated— | To the—
Canadair Challenger Temporary Revision 604/21 | August 1, 2006 | Canadair Challenger CL-604 Airplane Flight Manual, PSP 604-1.
Canadair Regional Jet Temporary Revision RJ/152-4 | August 9, 2006 | Canadair Regional Jet Airplane Flight Manual, CSP A-012.

(3) Contact Bombardier, Inc., Canadair, Aerospace Group, P.O. Box 6087, Station Centre-ville, Montreal, Quebec H3C 3G9, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 13, 2006.
Kalene C. Yanamura,
Acting Manager, Transport Airplane Directorate, Aircraft Certification Service.

[FR Doc. E6-17650 Filed 10-27-06; 8:45 am]

BILLING CODE 4910-13-P